DEPARTMENT OF HEALTH AND HUMAN SERVICES

Health Resources and Services Administration

Advisory Commission on Childhood Vaccines Meeting Cancellation

AGENCY: Health Resources and Services Administration; Department of Health and Human Services.

ACTION: Notice of meeting cancellation.

SUMMARY: This is to notify the public that the March 3, 2022, meeting of the Advisory Commission on Childhood Vaccines (ACCV) is canceled and will be rescheduled. This meeting was announced in the Federal Register, Vol. 87, No. 20 on Monday, January 31, 2022 (FR Doc. 2022-01848 Filed 1-28-22). Future meetings will occur in June, September, and December of calendar year 2022 and were announced through the same Federal Register notice.

FOR FURTHER INFORMATION CONTACT: CDR Reed Grimes, Designated Federal Official, ACCV, 5600 Fishers Lane, Rockville, Maryland 20857, telephone: (301) 443-6634 or email: ACCV@HRSA.gov.

Maria G. Button,
Director, Executive Secretariat.

[FR Doc. 2022-04105 Filed 2-25-22; 8:45 am]

BILLING CODE 4165-15-P